DEPARTMENT OF COMMERCE

International Trade Administration

[A-351-854]

Common Alloy Aluminum Sheet From Brazil: Final Determination of Sales at Less Than Fair Value

AGENCY: Enforcement and Compliance, International Trade Administration, Department of Commerce.

SUMMARY: The Department of Commerce (Commerce) continues to determine that imports of common alloy aluminum sheet (aluminum sheet) from Brazil are being, or are likely to be, sold in the United States at less than fair value (LTFV) for the period of investigation (POI), January 1, 2019, through December 31, 2019.

DATES: Applicable March 8, 2021.

FOR FURTHER INFORMATION CONTACT: Kyle Clahane, AD/CVD Operations, Office III, Enforcement and Compliance, International Trade Administration, U.S. Department of Commerce, 1401 Constitution Avenue NW, Washington, DC 20230; telephone: (202) 482-5449.

SUPPLEMENTARY INFORMATION:

Background

On October 15, 2020, Commerce published in the Federal Register its preliminary affirmative determination in the LTFV investigation of aluminum sheet from Brazil, in which we also postponed the final determination until March 1, 2021.¹ We invited interested parties to comment on the Preliminary Determination. We received no comments on the Preliminary Determination.

¹ See Common Alloy Aluminum Sheet from Brazil: Preliminary Affirmative Determination of Sales at Less Than Fair Value, Postponement of Final Determination, and Extension of Provisional Measures, 85 FR 65363 (October 15, 2020) (Preliminary Determination), and accompanying Preliminary Decision Memorandum.

Scope of the Order

The products covered by this investigation are common alloy aluminum sheet from Brazil. For a complete description of the scope of this investigation, see the Appendix.

Scope Comments

During the course of this investigation, Commerce received scope comments from interested parties. Commerce issued a Preliminary Scope Decision Memorandum to address these comments.² We received comments from interested parties on the Preliminary Scope Decision Memorandum, which we address in the Final Scope Decision Memorandum.³ Commerce is not modifying the scope language as it appeared in the Preliminary Determination. See the Appendix for the final scope of the investigation.

² See Memorandum, “Common Alloy Aluminum Sheet from Bahrain, Brazil, Croatia, Egypt, Germany, Greece, India, Indonesia, Italy, Republic of Korea, Oman, Romania, Serbia, Slovenia, South Africa, Spain, Taiwan, and Turkey: Scope Comments Decision Memorandum for the Preliminary Determinations,” dated October 6, 2020 (Preliminary Scope Decision Memorandum).

³ See Memorandum, “Common Alloy Aluminum Sheet from Bahrain, Brazil, Croatia, Egypt, Germany, Greece, India, Indonesia, Italy, Korea, Oman, Romania, Serbia, Slovenia, South Africa, Spain, Taiwan, and Turkey: Scope Comments Final Decision Memorandum,” dated concurrently with, and hereby adopted by, this notice (Final Scope Decision Memorandum).

Verification

Commerce was unable to conduct on-site verification of the information relied upon in making its final determination in this investigation. However, we took additional steps in lieu of an on-site verification to verify the information relied upon in making this final determination, in accordance with section 782(i) of the Tariff Act of 1930, as amended (the Act).⁴

⁴ See Commerce's Letter, “Remote Verification—Request for Documentation,” dated November 17, 2020; see also Novelis do Brasil Ltda's (Novelis Brasil's) Letter, “Common Alloy Aluminum Sheet from Brazil: Novelis do Brasil Ltda's Verification Questionnaire Response,” dated November 24, 2020 (Verification Questionnaire Response).

Changes Since the Preliminary Determination

We continue to find that imports of aluminum sheet from Brazil are being, or are likely to be, sold in the United States at LTFV for the POI. Because we received no comments, we hereby incorporate by reference our reasoning in the Preliminary Determination, and no separate decision memorandum accompanies this Federal Register notice.

However, based on our review and analysis of the information received in lieu of on-site verification, we made certain changes to the margin calculation for mandatory respondent, Novelis do Brasil Ltda (Novelis Brasil).⁵ As a result of these changes, Commerce also revised the all-others rate and the rate assigned to Companhia Brasileira de Aluminio (CBA). See below for further discussion.

⁵ See Memorandum, “Analysis Memorandum for the Final Determination of the Less-than-Fair-Value Investigation of Common Alloy Aluminum Sheet from Brazil: Novelis do Brasil Ltda.,” dated concurrently with this notice (Final Analysis Memorandum).

Use of Adverse Facts Available

In the Preliminary Determination, Commerce found that the mandatory respondent, CBA, failed to comply with Commerce's multiple requests for information, which significantly impeded the investigation. Further, Commerce found that CBA failed to cooperate to the best of its ability in this investigation. Therefore, in the Preliminary Determination, pursuant to sections 776(a) and (b) of the Act, Commerce assigned CBA a rate based on adverse facts available (AFA). No interested party commented on this determination, and so there is no basis for us to revisit our determination to apply AFA to this company. Accordingly, we continue to find that the application of AFA pursuant to sections 776(a) and (b) of the Act is warranted in determining CBA's weighted-average margin. Consistent with the Preliminary Determination, Commerce has assigned to CBA the highest transaction-specific margin calculated for Novelis Brasil, which is 137.06 percent.⁶ Because this rate is not secondary information, but rather is based on information obtained in the course of the investigation, Commerce need not corroborate this rate pursuant to section 776(c) of the Act.

⁶ See Final Analysis Memorandum. As a result of minor corrections received in Novelis Brasil's Verification Questionnaire Response, Novelis Brasil's highest transaction-specific margin changed from 136.78 percent in the Preliminary Determination to 137.06 percent in the final determination. Because we continue to use Novelis Brasil's highest transaction-specific margin as the AFA rate for CBA, for the final determination, we have updated the rate assigned to CBA accordingly.

All-Others Rate

Section 735(c)(5)(A) of the Act provides that the estimated weighted-average dumping margin for all other producers and exporters not individually investigated shall be equal to the weighted average of the estimated weighted-average dumping margins established for exporters and producers individually investigated, excluding rates that are zero, de minimis, or determined entirely under section 776 of the Act. Commerce assigned a rate based entirely on facts available under section 776 of the Act to CBA. Therefore, the only rate that is not zero, de minimis, or based entirely on facts otherwise available, is the rate calculated for Novelis Brasil. Consequently, consistent with the Preliminary Determination, the rate calculated for Novelis Brasil is assigned as the rate for all other producers and exporters pursuant to section 735(c)(5)(A) of the Act.

Final Determination

The final estimated weighted-average dumping margins are as follows:

Exporter/producer | Weighted- average dumping margin (percent)
Companhia Brasileira de Aluminio | 137.06
Novelis do Brasil Ltda | 49.61
All Others | 49.61

Disclosure

We intend to disclose the calculations performed for Novelis Brasil in this final determination within five days of the date of publication of this notice to parties in this proceeding in accordance with 19 CFR 351.224(b).⁷

⁷ Because Commerce is continuing to apply AFA to CBA in this investigation, in accordance with section 776 of the Act, there are no calculations to disclose for CBA.

Continuation of Suspension of Liquidation

In accordance with section 735(c)(1)(B) of the Act, Commerce will instruct U.S. Customs and Border Protection (CBP) to continue to suspend liquidation of all appropriate entries of aluminum sheet from Brazil, as described in the appendix of this notice, which are entered, or withdrawn from warehouse, for consumption on or after October 15, 2020, the date of publication in the Federal Register of the affirmative Preliminary Determination.

Pursuant to section 735(c)(1)(B)(ii) of the Act and 19 CFR 351.210(d), we will instruct CBP to require a cash deposit for such entries of merchandise equal to the estimated weighted-average dumping margin as follows: (1) The cash deposit rate for the respondents listed above will be equal to the respondent-specific estimated weighted-average dumping margin determined in this final determination; (2) if the exporter is not a respondent identified above but the producer is, then the cash deposit rate will be equal to the respondent-specific estimated weighted-average dumping margin established for that producer of the subject merchandise; and (3) the cash deposit rate for all other producers and exporters will be equal to the all-others estimated weighted-average dumping margin. These suspension-of-liquidation instructions will remain in effect until further notice.

International Trade Commission Notification

In accordance with section 735(d) of the Act, we will notify the International Trade Commission (ITC) of the final affirmative determination of sales at LTFV. Because Commerce's final determination is affirmative, in accordance with section 735(b)(2) of the Act, the ITC will make its final determination as to whether the domestic industry in the United States is materially injured, or threatened with material injury, by reason of imports or sales (or the likelihood of sales) for importation of sheet no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice will serve as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and this notice are issued and published pursuant to sections 735(d) and 777(i)(1) of the Act and 19 CFR 351.210(c).

Dated: March 1, 2021.
Christian Marsh,
Acting Assistant Secretary for Enforcement and Compliance.

Appendix—Scope of the Investigation

The products covered by this investigation are common alloy aluminum sheet, which is a flat-rolled aluminum product having a thickness of 6.3 mm or less, but greater than 0.2 mm, in coils or cut-to-length, regardless of width. Common alloy sheet within the scope of this investigation includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core. The use of a proprietary alloy or non-proprietary alloy that is not specifically registered by the Aluminum Association as a discrete 1XXX-, 3XXX-, or 5XXX-series alloy, but that otherwise has a chemistry that is consistent with these designations, does not remove an otherwise in-scope product from the scope.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of these investigations if performed in the country of manufacture of the common alloy sheet.

Excluded from the scope of this investigation is aluminum can stock, which is suitable for use in the manufacture of aluminum beverage cans, lids of such cans, or tabs used to open such cans. Aluminum can stock is produced to gauges that range from 0.200 mm to 0.292 mm, and has an H-l9, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of this investigation may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of this investigation is dispositive.

[FR Doc. 2021-04725 Filed 3-5-21; 8:45 am]

BILLING CODE 3510-DS-P